NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: NRC Form 396, “Certification of Medical Examination by Facility Licensee”.

2. Current OMB approval number: 3150-0024.

3. How often the collection is required: Upon application for an initial operator license, every six years for the renewal of operator or senior operator license, and upon notices of disability.

4. Who is required or asked to report: Facility licensees who are tasked with certifying the medical fitness of an applicant or licensee.

5. The number of annual respondents: 137.

6. The number of hours needed annually to complete the requirement or request: 758 (288 hours for reporting (.25 hours per response) and 470 hours for recordkeeping (3.4 hours per recordkeeper)).

7. Abstract: NRC Form 396 is used to transmit information to the NRC regarding the medical condition of applicants for initial operator licenses or renewal of operator licenses and for the maintenance of medical records for all licensed operators. The information is used to determine whether the physical condition and general health of applicants for operator licensees is such that the applicant would not be expected to cause operational errors and endanger public health and safety.

Submit, by October 3, 2005, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions about the information collection requirements may be directed to the NRC Clearance Officer, Brenda Jo Shelton (T-5 F53), U.S. Nuclear Regulatory Commission, Washington, DC 20555-0001, by telephone at 301-415-7233, or by Internet electronic mail to infocollects@nrc.gov.

Dated in Rockville, Maryland, this27th day of July 2005.
For the Nuclear Regulatory Commission.
Brenda Jo Shelton,
NRC Clearance Officer, Office of Information Services.

[FR Doc. E5-4104 Filed 8-1-05; 8:45 am]

BILLING CODE 7590-01-P